COMMITTEE FOR PURCHASE FROM PEOPLE WHO ARE BLIND OR SEVERELY DISABLED

Procurement List; Proposed Additions and Deletions and Correction

AGENCY: Committee for Purchase From People Who Are Blind or Severely Disabled.

ACTION: Proposed additions to and deletions from the Procurement List and correction to previous Notice.

SUMMARY: The Committee is proposing to add service(s) to the Procurement List that will be furnished by nonprofit agencies employing persons who are blind or have other severe disabilities, deletes product(s) and service(s) previously furnished by such agencies and correct a previous Notice.

DATES: Comments must be received on or before: January 05, 2025.

ADDRESSES: Committee for Purchase From People Who Are Blind or Severely Disabled, 355 E Street SW, Suite 325, Washington, DC 20024.

FOR FURTHER INFORMATION CONTACT: For further information or to submit comments contact: Mike Jurkowski, Telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Additions

In accordance with 41 CFR 51-5.3(b), the Committee intends to add this services requirement to the Procurement List as a mandatory purchase only for the contracting activity and location listed below with the proposed qualified nonprofit agency as the authorized source of supply. Prior to adding the service to the Procurement List, the Committee will consider other pertinent information, including information from Government personnel and relevant comments from interested parties regarding the Committee's intent to geographically limit this services requirement.

If the Committee approves the proposed additions, the entities of the Federal Government identified in this notice will be required to procure the service(s) listed below from nonprofit agencies employing persons who are blind or have other severe disabilities.

The following service(s) are proposed for addition to the Procurement List for production by the nonprofit agencies listed:

Service(s)

Service Type: Custodial Service

Mandatory for: US Air Force, Goodfellow AFB, TX

Authorized Source of Supply: Work Services Corporation

Contracting Activity: US Air Force FA3030 17 CONS CC

Deletions

The following product(s) and service(s) are proposed for deletion from the Procurement List:

Product(s)

NSN(s)—Product Name(s):

7510-01-579-9321—Binder, Removable Slant-D Rings, 100% Recyclable, Turned Edge, Blue, 1½″ Capacity, Letter

Authorized Source of Supply: South Texas Lighthouse for the Blind, Corpus Christi, TX

Contracting Activity: GSA/FAS ADMIN SVCS ACQUISITION BR(2, NEW YORK, NY

Contracting Activity: STRATEGIC ACQUISITION CENTER, FREDERICKSBURG, VA

Service(s)

Service Type: Mail and Messenger Service

Mandatory for: US Army, Tobyhanna Army Depot, Tobyhanna, PA; 11 Hap Arnold Boulevard; Tobyhanna, PA

Authorized Source of Supply: The Burnley Workshop of the Poconos, Inc., Stroudsburg, PA

Contracting Activity: DEPT OF THE ARMY, W0ML USA DEP TOBYHANNA

Correction

On November 8, 2024 the Committee announced in an initial Federal Register Notice (89 FR 88738) the deletion of the products listed below. That Notice was incorrect, these items will not be deleted from the Procurement List.

NSN(s)—Product Name(s):

8415-01-623-5052—Coat, Army Combat Uniform, Permethrin, Unisex, OCP 2015, XS-XXS

8415-01-623-5162—Coat, Army Combat Uniform, Permethrin, Unisex, OCP 2015, XS-XS

8415-01-623-5165—Coat, Army Combat Uniform, Permethrin, Unisex, OCP 2015, XS-S

8415-01-623-5166—Coat, Army Combat Uniform, Permethrin, Unisex, OCP 2015, XS-R

8415-01-623-5169—Coat, Army Combat Uniform, Permethrin, Unisex, OCP 2015, XS-L

8415-01-623-5170—Coat, Army Combat Uniform, Permethrin, Unisex, OCP 2015, XS-XL

8415-01-623-5172—Coat, Army Combat Uniform, Permethrin, Unisex, OCP 2015, S-XXS

8415-01-623-5174—Coat, Army Combat Uniform, Permethrin, Unisex, OCP 2015, S-XS

8415-01-623-5178—Coat, Army Combat Uniform, Permethrin, Unisex, OCP 2015, S-S

8415-01-623-5180—Coat, Army Combat Uniform, Permethrin, Unisex, OCP 2015, S-R

8415-01-623-5182—Coat, Army Combat Uniform, Permethrin, Unisex, OCP 2015, S-L

8415-01-623-5236—Coat, Army Combat Uniform, Permethrin, Unisex, OCP 2015, S-XL

8415-01-623-5237—Coat, Army Combat Uniform, Permethrin, Unisex, OCP 2015, M-XXS

8415-01-623-5525—Coat, Army Combat Uniform, Permethrin, Unisex, OCP 2015, M-XS

8415-01-623-5526—Coat, Army Combat Uniform, Permethrin, Unisex, OCP 2015, M-S

8415-01-623-5528—Coat, Army Combat Uniform, Permethrin, Unisex, OCP 2015, M-R

8415-01-623-5529—Coat, Army Combat Uniform, Permethrin, Unisex, OCP 2015, M-L

8415-01-623-5534—Coat, Army Combat Uniform, Permethrin, Unisex, OCP 2015, M-XL

8415-01-623-5537—Coat, Army Combat Uniform, Permethrin, Unisex, OCP 2015, M-XXL

8415-01-623-5541—Coat, Army Combat Uniform, Permethrin, Unisex, OCP 2015, L-XXS

8415-01-623-5542—Coat, Army Combat Uniform, Permethrin, Unisex, OCP 2015, L-XS

8415-01-623-5543—Coat, Army Combat Uniform, Permethrin, Unisex, OCP 2015, L-S

8415-01-623-5552—Coat, Army Combat Uniform, Permethrin, Unisex, OCP 2015, L-R

8415-01-623-5553—Coat, Army Combat Uniform, Permethrin, Unisex, OCP 2015, L-L

8415-01-623-5554—Coat, Army Combat Uniform, Permethrin, Unisex, OCP 2015, L-XL

8415-01-623-5557—Coat, Army Combat Uniform, Permethrin, Unisex, OCP 2015, L-XXL

8415-01-623-5740—Coat, Army Combat Uniform, Permethrin, Unisex, OCP 2015, XL-XXS

8415-01-623-5742—Coat, Army Combat Uniform, Permethrin, Unisex, OCP 2015, XL-XS

8415-01-623-5789—Coat, Army Combat Uniform, Permethrin, Unisex, OCP 2015, XL-S

8415-01-623-5790—Coat, Army Combat Uniform, Permethrin, Unisex, OCP 2015, XL-R

8415-01-623-5793—Coat, Army Combat Uniform, Permethrin, Unisex, OCP 2015, XL-L

8415-01-623-5795—Coat, Army Combat Uniform, Permethrin, Unisex, OCP 2015, XL-XL

8415-01-623-5796—Coat, Army Combat Uniform, Permethrin, Unisex, OCP 2015, XL-XXL

8415-01-623-5797—Coat, Army Combat Uniform, Permethrin, Unisex, OCP 2015, XXL-R

8415-01-623-5801—Coat, Army Combat Uniform, Permethrin, Unisex, OCP 2015, XXL-L

8415-01-623-5803—Coat, Army Combat Uniform, Permethrin, Unisex, OCP 2015, XXL-XL

8415-01-623-5805—Coat, Army Combat Uniform, Permethrin, Unisex, OCP 2015, XXL-XXL

Authorized Source of Supply: Goodwill Industries of South Florida, Inc., Miami, FL

Authorized Source of Supply: ReadyOne Industries, Inc., El Paso, TX

Authorized Source of Supply: Goodwill Industries of South Florida, Inc., Miami, FL

Authorized Source of Supply: MISSISSIPPI INDUSTRIES FOR THE BLIND (INC), Jackson, MS

Authorized Source of Supply: INDUSTRIES OF THE BLIND, INC, Greensboro, NC

Authorized Source of Supply: San Antonio Lighthouse for the Blind, San Antonio, TX

Authorized Source of Supply: Blind Industries & Services of Maryland, Baltimore, MD

Contracting Activity: W6QK ACC-APG NATICK, NATICK, MA

Contracting Activity: DLA TROOP SUPPORT, PHILADELPHIA, PA

Michael R. Jurkowski,
Director, Business Operations.

[FR Doc. 2024-28569 Filed 12-5-24; 8:45 am]

BILLING CODE 6353-01-P